FEDERAL COMMUNICATIONS COMMISSION

47 CFR Part 73

[DA 05-1628; MB Docket No. 04-427, RM-11127; RM-11239]

Radio Broadcasting Services; Ammon and Dubois, ID

AGENCY: Federal Communications Commission.

ACTION: Final rule.

SUMMARY: This document allots Channel 286A at Dubois Idaho at the request of Laramie Mountain Broadcasting, LLC, counterproponant filing in response to a Notice of Proposed Rule Making issued at the request of withdrawn petitioner Justin Robinson. 69 FR 75016 (December 15, 2004). Laramie originally requested the allotment of Channel 283A at Dubois, Idaho and amended to Channel 286A. Channel 286A is allotted at Dubois without a site restriction at coordinates 44-10-34 NL and 112-13-48 WL. A second counterproposal, dismissed as defective, was filed by Millcreek Broadcasting, LLC, licensee of Stations KNJQ(FM), Manti, Utah, KUUU(FM), South Jordan, Utah and KUDD(FM), Roy, Utah; Simmons SLC-LS, LLC, licensee of Stations KDWY(FM), Diamondville, Wyoming, KAOX(FM), Kemmerer, Wyoming and KRAR(FM), Brigham City, Utah; Rocky Mountain Radio Network, Inc., licensee of Station KRMF(FM) Evanston, Wyoming; 3 Point Media—Coalville, LLC, licensee of Station KCUA(FM), Naples, Utah; and College Creek Broadcasting, LLC successful bidder and applicant for four vacant auction allotments.

DATES: Effective July 25, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-427 adopted June 8, 2005, and released June 10, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under Idaho is amended by adding Dubois, Channel 286A.

Federal Communications Commission.
John A. Karousos,
Assistant Chief, Audio Division, Media Bureau.

[FR Doc. 05-12470 Filed 6-28-05; 8:45 am]

BILLING CODE 6712-01-P